DEPARTMENT OF HEALTH AND HUMAN SERVICES

National Institutes of Health

Request for Information on the FY 2013-2018 Strategic Plan for the Office of Disease Prevention

SUMMARY: The purpose of this Request for Information (RFI) is to seek broad public input on the Fiscal Year (FY) 2013-2018 Strategic Plan for the Office of Disease Prevention (ODP), National Institutes of Health (NIH).

DATES: To ensure consideration, responses must be received by April 14, 2013.

ADDRESSES: Comments must be submitted electronically using the web-based form available at http://prevention.nih.gov/aboutus/strategic_plan/rfi.aspx.

FOR FURTHER INFORMATION CONTACT: Please direct all inquiries to Wilma Peterman Cross, M.S.; Senior Public Health Advisor, Office of Disease Prevention, National Institutes of Health; phone: 301-496-1508; email: prevention@mail.nih.gov.

SUPPLEMENTARY INFORMATION: The mission of ODP is to improve the public health by increasing the scope, quality, dissemination, and impact of prevention research supported by the NIH. ODP will fulfill this mission by providing leadership for the development, coordination, and implementation of prevention research in collaboration with the NIH Institutes and Centers (ICs) and other partners. The Office is responsible for advising the Director, NIH, regarding prevention research issues, actions, and activities. The Office also provides overall guidance to the ICs on biomedical programs that seek to improve the nation's health through research, training, knowledge translation, and public education as they relate to health promotion and disease prevention.

Prevention research at the NIH encompasses research designed both to promote health and to prevent the onset of disease, disorders, or injuries and the progression of asymptomatic disease. Prevention research targets biology and genetics, individual behavior, factors in the social and physical environments, and health services; and it informs and evaluates health-related policies and regulations. Prevention research includes:

• Identification and assessment of risk and protective factors.

• Screening and identification of individuals and groups at risk.

• Development and evaluation of interventions to reduce risk.

• Translation and dissemination of effective preventive interventions into practice.

• Development of research methods to support this work.

The Office was established in 1986 in response to a directive in the Health Research Extension Act of 1985. With increased attention on the application of prevention research nationally and the recent reorganization of ODP, the Office has embarked on an extensive planning process to develop a strategic plan for FY 2013-2018.

Information Requested

This RFI is intended to gather broad public input on the strategic priorities to be included in the plan and other suggestions on how to enhance the prevention research portfolio at the NIH. The ODP invites input from prevention researchers in academia and industry; from health care professionals, patient advocates and advocacy organizations, scientific or professional organizations, federal agencies; and from other interested members of the public. Organizations are strongly encouraged to submit a single response that reflects the views of their organization and membership as a whole.

Your perspectives can include, but are not limited to, the following topics as they relate to the six draft strategic priorities listed below:

• Suggested changes, additions, or deletions to the list of strategic priorities

• Recommended measurable objectives associated with an individual priority

• Appropriate benchmarks for gauging progress toward each recommended objective.

Strategic Priority #1: Systematically monitor NIH investments in prevention research and the progress and results of that research.

Strategic Priority #2: Identify and promote prevention research areas that deserve expanded effort and investment by the NIH.

Strategic Priority #3: Promote the use of the best available methods in prevention research and support the development of new and innovative approaches.

Strategic Priority #4: Encourage development of collaborative prevention research projects and facilitate coordination of such projects across the NIH and with other public and private entities.

Strategic Priority #5: Identify and promote the use of effective evidence-based interventions.

Strategic Priority #6: Increase the visibility of prevention research at the NIH and across the country.

In addition to the strategic priorities, the ODP welcomes suggestions on how to enhance the prevention research portfolio at the NIH:

1. Suggested changes to the approach used by the NIH to develop funding opportunity announcements that could improve the quality of prevention research supported by the NIH.

2. Suggested changes to the approach used by the NIH to review applications that could improve the quality of prevention research supported by the NIH.

3. Suggested changes to the approach used by the NIH in managing funded projects that could improve the quality of prevention research supported by the NIH.

How To Submit a Response

To ensure consideration, responses must be received by April 14, 2013, and should be submitted electronically using the web-based form available at http://prevention.nih.gov/aboutus/strategic_plan/rfi.aspx. The web form will provide confirmation of response submission, but respondents will not receive individualized feedback. All respondents are encouraged to sign up for the ODP email list at http://prevention-nih.org/subscribe to receive information related to Office activities, including updates on the development and release of the final strategic plan. Responses to this RFI are voluntary and may be submitted anonymously. Please do not include any personally identifiable or other information that you do not wish to make public. Proprietary, classified, confidential, or sensitive information should not be included in responses. Comments submitted will be compiled for discussion and incorporated into the ODP strategic plan as appropriate. Any personal identifiers (personal names, email addresses, etc.) will be removed when responses are compiled. This RFI is for informational and planning purposes only and is not a solicitation for applications or an obligation on the part of the United States Government to provide support for any ideas identified in response to it. Please note that the U.S. Government will not pay for the preparation of any information submitted or for use of that information.

Dated: February 5, 2013.
Francis S. Collins,
Director, National Institutes of Health.

[FR Doc. 2013-05773 Filed 3-12-13; 8:45 am]

BILLING CODE 4140-01-P